DEPARTMENT OF TRANSPORTATION

Surface Transportation Board

[STB Finance Docket No. 34757]

North American Industrial Railway, Inc.—Acquisition and Operation Exemption—Corn Products International, Inc., and Chicago, Peoria & Western Railway, Inc.

North American Industrial Railway, Inc. (NAIR), a noncarrier, has filed a verified notice of exemption under 49 CFR 1150.31 to acquire exclusive operating rights over approximately 17 miles of rail line (including sidings and interchange tracks), owned by Corn Products International, Inc. (CPI), and CPI's affiliate, Chicago, Peoria & Western Railway, Inc. (CPW),¹ in Cook County, IL. The trackage serves the Argo Facility, owned by CPI, in Bedford Park, IL,² and is not designated by milepost markings. NAIR will operate over the rail property pursuant to an operating agreement with CPI and CPW.

¹ CPW owns 3,000 feet of the subject trackage, which provides access to the connection with the Belt Railway of Chicago. The balance of the trackage is owned by CPI.

² The trackage also serves another shipper located there.

NAIR certifies that its projected revenues as a result of the transaction will not exceed those that would qualify it as a Class III rail carrier and will not exceed $5 million.

Consummation was scheduled to take place on or after September 18, 2005 (the exemption became effective September 16, 2005, 7 days after filing).

If the notice contains false or misleading information, the exemption is void ab initio. Petitions to revoke the exemption under 49 U.S.C. 10502(d) may be filed at any time. The filing of a petition to revoke will not automatically stay the transaction.

An original and 10 copies of all pleadings, referring to STB Finance Docket No. 34757, must be filed with the Surface Transportation Board, 1925 K Street, NW., Washington, DC 20423-0001. In addition, one copy of each pleading must be served on Rose-Michele Nardi, 1300 19th Street, NW., Fifth Floor, Washington, DC 20036-1609.

Board decisions and notices are available on our Web site at http://www.stb.dot.gov.

Decided: September 23, 2005.
By the Board, David M. Konschnik, Director, Office of Proceedings.
Vernon A. Williams,
Secretary.

[FR Doc. 05-19486 Filed 9-29-05; 8:45 am]

BILLING CODE 4915-01-P